FEDERAL EMERGENCY MANAGEMENT AGENCY

[Docket No.: FEMA-REP-1-RI-1]

Rhode Island Ingestion Pathway Plan for Millstone Nuclear Power Plant and Pilgrim Nuclear Power Station

AGENCY: Federal Emergency Management Agency (FEMA).

ACTION: Notice.

SUMMARY: FEMA gives notice of approval of the State of Rhode Island Ingestion Pathway Plan in support of the overall emergency preparedness for the Millstone Nuclear Power Plant and Pilgrim Nuclear Power Station.

DATES: This certification and approval are effective as of April 14, 2000.

FOR FURTHER INFORMATION CONTACT: Regional Director, FEMA Region I, 442 J.W. McCormack POCH Boston, and Massachusetts 02109. Please refer to Docket No. FEMA-REP-1-RI-1.

SUPPLEMENTARY INFORMATION: In accordance with the Federal Emergency Management Agency (FEMA) Rule 44 CFR, Part 350, the State of Rhode Island submitted its ingestion pathway plan in support of the overall emergency preparedness for the Millstone Nuclear Power Plant and Pilgrim Nuclear Power Station. The plan was submitted to the Regional Director of FEMA Region I for review and approval on April 3, 1996. The Regional Director forwarded a recommendation for formal approval of the Rhode Island Plan to FEMA Headquarters for review and approval on November 29, 1999, in accordance with Section 350.11. This evaluation was based on a review of the plan; the joint exercise conducted on August 10-11, 1999, in accordance with section 350.9 for the exercise for Pilgrim Nuclear Power Station; and, a report of the public meeting held on March 20, 2000, to discuss the portion of the State of Rhode Island's plan and the Millstone Nuclear Power Plant plan for Connecticut Communities in accordance with section 350.10. Based on an overall evaluation, I find and determine that the State of Rhode Island Ingestion Pathway plans can be implemented and are adequate to protect the health and safety of the public living in the Rhode Island portion of the ingestion pathway of Millstone Nuclear Power Plant and Pilgrim Nuclear Power Station by providing reasonable assurance that appropriate protective measures can be taken in the event of an accident at either one of these sites. FEMA will continue to review the status of the ingestion pathway plan in accordance with Sections 350.5 and 350.9.

Dated: May 16, 2000.
Kay C. Goss,
Associate Director for Preparedness, Training, and Exercises.

[FR Doc. 00-12808 Filed 5-19-00; 8:45 am]

BILLING CODE 6718-06-P